DEPARTMENT OF HEALTH AND HUMAN SERVICES

Administration for Children and Families

Proposed Information Collection Activity; The Role of Licensing in Early Care and Education (New Collection)

AGENCY: Office of Planning, Research, and Evaluation, Administration for Children and Families, Department of Health and Human Services.

ACTION: Request for Public Comments.

SUMMARY: The Office of Planning, Research, and Evaluation (OPRE), Administration for Children and Families (ACF), is proposing to collect information for The Role of Licensing in Early Care and Education (TRLECE) project. This data collection aims to examine the child care and early education (CCEE) licensing system through surveys of child care licensing administrators, front-line child care licensing staff, and child care providers.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. All requests should be identified by the title of the information collection.

SUPPLEMENTARY INFORMATION:

Description: The TRLECE project is proposing a new information collection to deepen the field's understanding of the CCEE licensing system. Information will be collected from child care licensing administrators, front-line child care licensing staff, and child care providers. This information collection will include three national surveys:

1. A one-time nationwide survey of the child care licensing administrator in each state, territory, and the District of Columbia (N=56) regarding the licensing system, as well as administrators' characteristics, experiences, and perceptions of the licensing system. Child care licensing administrators oversee critical systems that regulate child care settings for young children.

2. A one-time nationwide survey of front-line child care licensing staff from each of the 50 states and the District of Columbia about their characteristics, experiences, responsibilities, and perceptions of the CCEE licensing system. By front-line child care licensing staff we mean individuals who routinely conduct licensing inspections of child care programs. They may have other responsibilities as well, as long as one of their jobs is to routinely conduct inspections.

3. A one-time nationwide survey of licensed child care providers from each of the 50 states and the District of Columbia about their perceptions of and experiences with the CCEE licensing system. For the purposes of this study, licensed providers are defined as program owners/directors who oversee the day-to-day operations in a licensed center, as well as owners/operators of licensed family child care (FCC) programs (including group and family child care homes).

Respondents: We will invite all child care licensing administrators in each state/territory and the District of Columbia, and all front-line child care licensing staff in each state and the District of Columbia to participate in a comprehensive one-time web-based or telephone survey. For the survey of providers, the goal for the final sample will be a nationally representative sample of 2,000 licensed providers from all 50 states and the District of Columbia, (1,000 randomly selected licensed child care centers and 1,000 randomly selected family child care homes).

Annual Burden Estimates
Instrument | Number of respondents (total over request period) | Number of responses per respondent (total over request period) | Average burden per response (in hours) | Total/annual burden (in hours)
Child care licensing administrator survey | 56 | 1 | 0.33 | 19
Front-line child care licensing staff survey | 1650 | 1 | 0.5 | 825
Child care provider survey | 2000 | 1 | 0.5 | 1000

Estimated Total Annual Burden Hours: 1844.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9858.

Mary B. Jones,
ACF/OPRE Certifying Officer.

[FR Doc. 2022-18154 Filed 8-22-22; 8:45 am]

BILLING CODE 4184-23-P